EXPORT-IMPORT BANK OF THE UNITED STATES

Sunshine Act Meeting; Notice of an Open Meeting of the Board of Directors of the Export-Import Bank of the United States

TIME AND DATE: Thursday, May 21, 2020 at 10:00 a.m.

PLACE: The meeting will be held via Teleconference.

STATUS: The meeting will be open to public observation by teleconference.

MATTER TO BE CONSIDERED:

• Item No. 1 Small Business Update.

• Item No. 2 Additionality and Economic Impact Reforms.

CONTACT PERSON FOR MORE INFORMATION: Members of the public who wish to attend the meeting should email Joyce Stone, Office of the General Counsel, 811 Vermont Avenue NW, Washington, DC 20571 (joyce.stone@exim.gov) by close of business Tuesday, May 19, 2020. Individuals will be given call-in information upon notice of attendance to EXIM.

Joyce Stone,
Assistant Corporate Secretary.

[FR Doc. 2020-10220 Filed 5-8-20; 11:15 am]

BILLING CODE 6690-01-P